DEPARTMENT OF COMMERCE

National Oceanic and Atmospheric Administration

Coral Reef Conservation Program External Review

AGENCY: Coral Reef Conservation Program, NOAA, Department of Commerce.

ACTION: Request for public comment.

SUMMARY: The Coral Reef Conservation Act of 2000 supports effective management and sound science to preserve, sustain, and restore valuable coral reef ecosystems. The NOAA Coral Reef Conservation Program (CRCP or Program) is a partnership among four NOAA Line Offices (i.e., the National Ocean Service, the National Marine Fisheries Service, the National Environmental Satellite, Data, and Information Service, and the Office of Oceanic and Atmospheric Research) working on coral reef issues. The program carries out, directly and in partnership with scientific, private, government and nongovernmental groups, a wide range of coral reef-related activities, including mapping and monitoring, management and capacity building, strategic research, and education and outreach.

In order to evaluate and improve the success of its efforts to understand and conserve coral reefs, the CRCP is undertaking a comprehensive external review of the program. To this end, the CRCP is seeking external feedback, including public comment, on the program's approach to balancing competing priorities.

An independent contractor will summarize all comments received in response to this request and will provide them to an expert review panel scheduled to convene in late September 2007.

DATES: Your comments must be submitted no later than July 19, 2007.

ADDRESSES: This announcement contains guidance on how to provide feedback, including some of the questions for which the CRCP is seeking comment. The questions are also available for download via the Internet on the CRCP Web site at http://www.coralreef.noaa.gov/review.html. You may submit comments electronically via e-mail to crcp.comments@noaa.gov. You may also submit comments in writing to: CRCP, c/o Roger Griffis, 1305 East-West Highway, Sta. 10122, (N/ORM), Silver Spring, Maryland 20910.

FOR FURTHER INFORMATION CONTACT: Roger Griffis by mail at CRCP, NOAA, 1305 East-West Highway, Sta. 10122, (N/ORM), Silver Spring, Maryland 20910 or phone: (301) 713-3155 ext. 152 or e-mail: roger.b.griffis@noaa.gov or visit the CRCP Web site at http://www.coralreef.noaa.gov/review.html.

SUPPLEMENTARY INFORMATION: The CRCP's external review will encompass program activities between 2002 and 2006. An independent, external panel of seven experts in coral reef and natural resource science and management will convene for a three day meeting in late September 2007 to review materials and information about the CRCP, develop findings, and make recommendations.

The program is seeking input on the questions listed below. Please note that you do not need to address all questions, and the CRCP welcomes additional input on topics not covered in the questions listed.

Although the CRCP is the most interested in obtaining feedback based on the public's interaction and experience with the Program, background information concerning the CRCP and its activities is available from the CRCP Web site at http://www.coralreef.noaa.gov/review.html. The CRCP is seeking input on the following questions:

• Is the Program focusing efforts on the right suite of activities to advance coral reef conservation?

• Are the Program's efforts in various geographic areas appropriate to address the issues in each region?

• Are the Program's science and observation efforts (e.g., research, mapping, and monitoring) adequately addressing management needs, and informing and resulting in management actions?

• Have the Program's education and outreach efforts been effective in reaching the proper audiences?

• Is the Program providing effective leadership and building useful partnerships to advance coral reef conservation?

• How can the CRCP improve its impact and performance in the future?

An electronic version of these questions is available on the CRCP Web site at http://www.coralreef.noaa.gov/review.html.

(Optional) When you submit your comments, you are welcome to provide background information about yourself, such as your organization(s), area(s) of expertise, and experience with the CRCP. This information will be used by the independent consultant who will compile and summarizes the comments.

Public comments may be submitted from June 19, 2007 [publication date], through July 19, 2007 [30 days after].

Dated: June 13, 2007.
David M. Kennedy,
Program Manager, Coral Reef Conservation Program, National Oceanic and Atmospheric Administration

[FR Doc. 07-2990 Filed 6-18-07; 8:45 am]

BILLING CODE 3510-08-M